DEPARTMENT OF COMMERCE

International Trade Administration

A-570-832

Pure Magnesium from the People's Republic of China: Final Results of Antidumping Duty Administrative Review

AGENCY: Import Administration, International Trade Administration, Department of Commerce.

SUMMARY: On June 9, 2008, the Department published its preliminary results in the antidumping duty administrative review of pure magnesium from the PRC.¹ The period of review (“POR”) for the administrative review is May 1, 2006, through April 30, 2007. We have determined that both mandatory respondents, Shanxi Datuhe Coke & Chemicals, Co., Ltd. (“Datuhe”) and Tianjin Magnesium International Co., Ltd.(“TMI”), made sales in the United States at prices below normal value (“NV”). There are no other respondents covered by this review. We invited interested parties to comment on our preliminary results in this review. Based on our analysis of the comments we received in the administrative review, we made certain changes to our calculations for both mandatory respondents. The final dumping margins for this review are listed in the “Final Results Margins” section below.

¹ See Pure Magnesium from the People's Republic of China: Preliminary Results of Antidumping Duty Administrative Review, 73 FR 32549 (June 9, 2008) (“Preliminary Results“).

EFFECTIVE DATE: December 16, 2008.

FOR FURTHER INFORMATION CONTACT: Laurel LaCivita or Katharine Huang, AD/CVD Operations, Office 8, Import Administration, International Trade Administration, U.S. Department of Commerce, 14th Street and Constitution Avenue, NW, Washington, DC 20230; telephone: (202) 482-4243 or (202) 482-1271, respectively.

Background

The Department published its preliminary results on June 9, 2008.² We invited parties to comment on the Preliminary Results. We received comments from Petitioner³, Datuhe and TMI. Interested parties submitted case and rebuttal briefs on July 17 and July 23, 2008, respectively. On September 29, 2008, the Department extended the deadline for the final results of review to December 8, 2008.⁴ We held a hearing on October 30, 2008, in which all interested parties participated. We issued a supplemental questionnaire to TMI on November 17, 2008, requesting that it document the amount of by-products sold as reported in its section D response. TMI responded to the Department's request on November 20, 2008. On November 26, 2008, Petitioner provided comments on TMI's November 20, 2008, submission.

² See Preliminary Results.

³ United States Magnesium LLC.

⁴ See Pure Magnesium From the People's Republic of China: Extension of Time for the Final Results of the Antidumping Duty Administrative Review, 73 FR 56553 (September 29, 2008).

Analysis of Comments Received

All issues raised in the case and rebuttal briefs by parties in this review are addressed in the memorandum from Stephen J. Claeys, Deputy Assistant Secretary for Antidumping and Countervailing Duty Operations, to David M. Spooner, Assistant Secretary for Import Administration, “Issues and Decision Memorandum for the Final Results of the Antidumping Duty Administrative Review and New Shipper Review of Pure Magnesium from the People's Republic of China,” dated December 8, 2008, which is hereby adopted by this notice (“Issues and Decision Memorandum”). A list of the issues which parties raised and to which we respond in the Issues and Decision Memorandum is attached to this notice as an Appendix. The Issues and Decision Memorandum is a public document and is on file in the Central Records Unit (“CRU”), Main Commerce Building, Room 1117, and is accessible on the Web at http://ia.ita.doc.gov/frn/. The paper copy and electronic version of the memorandum are identical in content.

Period of Review

The POR is May 1, 2006, through April 30, 2007.

Scope of the Order

Merchandise covered by this order is pure magnesium regardless of chemistry, form or size, unless expressly excluded from the scope of this order. Pure magnesium is a metal or alloy containing by weight primarily the element magnesium and produced by decomposing raw materials into magnesium metal. Pure primary magnesium is used primarily as a chemical in the aluminum alloying, desulfurization, and chemical reduction industries. In addition, pure magnesium is used as an input in producing magnesium alloy. Pure magnesium encompasses products (including, but not limited to, butt ends, stubs, crowns and crystals) with the following primary magnesium contents: (1) Products that contain at least 99.95%% primary magnesium, by weight (generally referred to as “ultra pure” magnesium); (2) Products that contain less than 99.95%% but not less than 99.8%% primary magnesium, by weight (generally referred to as “pure” magnesium); and (3) Products that contain 50%% or greater, but less than 99.8%% primary magnesium, by weight, and that do not conform to ASTM specifications for alloy magnesium (generally referred to as “off-specification pure” magnesium).

“Off-specification pure” magnesium is pure primary magnesium containing magnesium scrap, secondary magnesium, oxidized magnesium or impurities (whether or not intentionally added) that cause the primary magnesium content to fall below 99.8%% by weight. It generally does not contain, individually or in combination, 1.5%% or more, by weight, of the following alloying elements: aluminum, manganese, zinc, silicon, thorium, zirconium and rare earths.

Excluded from the scope of this order are alloy primary magnesium (that meets specifications for alloy magnesium), primary magnesium anodes, granular primary magnesium (including turnings, chips and powder) having a maximum physical dimension (i.e., length or diameter) of one inch or less, secondary magnesium (which has pure primary magnesium content of less than 50%% by weight), and remelted magnesium whose pure primary magnesium content is less than 50%% by weight.

Pure magnesium products covered by this order are currently classifiable under Harmonized Tariff Schedule of the United States (HTSUS) subheadings 8104.11.00, 8104.19.00, 8104.20.00, 8104.30.00, 8104.90.00, 3824.90.11, 3824.90.19 and 9817.00.90. Although the HTSUS subheadings are provided for convenience and customs purposes, our written description of the scope is dispositive.

Surrogate Country

In the Preliminary Results, we stated that we selected India as the appropriate surrogate country to use in this review for the following reasons: (1) it is a significant producer of comparable merchandise; (2) it is at a similar level of economic development comparable to that of the PRC; and (3) we have reliable data from India that we can use to value the factors of production.⁵ For the final determination, we received no comments and made no changes to our findings with respect to the selection of a surrogate country.

⁵ See Preliminary Results.

Changes Since the Preliminary Results

Based on an analysis of the comments received, the Department has made certain changes in the margin calculations. For the final results, the Department has made the following changes:

General Issues

Calculation of Surrogate Financial Ratios

• We determined the surrogate financial ratios using only the financial statements of Madras Aluminium Company Limited (“MALCO”).

Recalculation of Surrogate Values

• We based the surrogate value for dolomite on the average purchase price for dolomite reflected in the financial statements for Tata Steel Ltd. and Tata Sponge Iron Limited as of March 31, 2007.

• We valued TMI's magnesium scrap using the HTS 8104.11.00, for material unwrought containing 99.8 percent magnesium.

• We multiplied the value of truck freight by one thousand to express the freight rates in metric tons.

• We based the surrogate value for magnesium chloride and flux no. 2 on the values reported for magnesium chloride, potassium chloride and sodium chloride in Chemical Weekly.

• We continued to use the Heat Content percentage methodology. However, we calculated a ratio using the heat value Datuhe reported for its coal gas and the heat value of natural gas derived from the Ministry of Petroleum and Natural Gas of the Indian Government, and applied this ratio to the natural gas value derived from the World Trade Atlas Thailand import statistics as the surrogate value for the coal gas.

Company-Specific Issues

Datuhe

• For the Preliminary Results, we granted Datuhe a by-product offset in full. For the final results, we granted Datuhe a by-product offset for magnesium residue sales substantiated by the sales receipts it provided.

TMI

• We revised our calculation of NV to include a by-product offset for TMI.

Final Results Margins

We determine that the following weighted-average percentage margins exist for the POR:

Pure Magnesium from the PRC
Exporter | Weighted-Average Margin (Percent)
Datuhe | 111.73%%
TMI | 0.63%%
PRC-Wide | 108.26%%

Assessment Rates

The Department will determine, and U.S. Customs and Border Protection (“CBP”) shall assess, antidumping duties on all appropriate entries. For customers/importers of the respondents for whom we do not have entered value, we have calculated customer/importer-specific antidumping duty assessment amounts based on the ratio of the total amount of antidumping duties calculated for the examined sales of subject merchandise to the total quantity of subject merchandise sold in those transactions. For customers/importers of the respondents that reported entered value, we have calculated customer-specific antidumping duty assessment amounts based on customer/importer-specific ad valorem rates in accordance with 19 CFR 351.212(b)(1). The Department intends to issue assessment instructions to CBP 15 days after the date of publication of these final results of administrative review.

Cash Deposit Requirements

The following cash deposit requirements will be effective upon publication of these final results of administrative review for all shipments of the subject merchandise entered, or withdrawn from warehouse, for consumption on or after the publication date, as provided for by section 751(a)(2)(C) of the Act: 1) for the exporters listed above, the cash deposit rate will be the rates shown for those companies; 2) for previously investigated or reviewed PRC and non-PRC exporters not listed above that have separate rates, the cash deposit rate will continue to be the exporter-specific rate published for the most recent period; 3) for all PRC exporters of subject merchandise which have not been found to be entitled to a separate rate, the cash deposit rate will be the PRC-wide rate of 108.26 percent; and 4) for all non-PRC exporters of subject merchandise which have not received their own rate, the cash deposit rate will be the rate applicable to the PRC exporters that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding in accordance with 19 CFR 351.224(b).

We are issuing and publishing these final results and notice in accordance with sections 751(a)(1) and 777(i)(1) of the Act.

Dated: December 8, 2008.
David M. Spooner,
Assistant Secretary for Import Administration.

Appendix I

List of Issues

Surrogate Values

Comment 1: Dolomite

Comment 2: Magnesium Chloride and Flux No. 2

Comment 3: Magnesium Scrap

Comment 4: Coal Gas

Comment 5: Truck Freight

Surrogate Financial Statements

Comment 6: Surrogate Financial Statements

A. Sterlite

B. MALCO

C. HINDALCO and NALCO

D. Zinc, Copper, Brass and Ferro-Alloys as Comparable Products

E. Zinc Producers: Binani, Hindustan Zinc and Rose Zinc

F. Extruded Aluminum and Downstream Copper-Products Producers

Comment 7: Calculation Issues with Respect to Surrogate Financial Statements

A. Investment Income for MALCO

B. The Valuation of Self-Generated Electrical Power for MALCO

C. The Deduction of Interest Income from Interest expense for MALCO

D. Interest Income Offset for HINDALCO and NALCO

Company Specific Issues

Comment 8: By-Product Offset for Datuhe

Comment 9: By-Product Offset for TMI

Comment 10: Combination Rate for TMI

[FR Doc. E8-29775 Filed 12-15-08; 8:45 am]

BILLING CODE 3510-DS-S